DEPARTMENT OF TRANSPORTATION

Federal Highway Administration

Buy America Waiver Notification

AGENCY: Federal Highway Administration (FHWA), DOT.

ACTION: Notice.

SUMMARY: This notice provides information regarding the FHWA's finding that a Buy America waiver is appropriate for re-use of historical bridge components for construction of Monon Trail Bridge over SR 25 in Indiana.

DATES: The effective date of the waiver is September 11, 2013.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to reuse some historical bridge components for construction of Monon Trail Bridge over SR 25 in Indiana.

The Indiana Department of Transportation (INDOT) requested this waiver for an overpass to carry the Monon High Bridge Trail across the new Hoosier Heartland Highway (SR 25). Working with the local Context Sensitive Solution group, INDOT decided to span SR 25 with the historic Freedom Bridge, built in the 1890s in Freedom, Indiana, but replaced, disassembled, and preserved for relocation. This innovative solution brought together State and local officials, the Indiana State Historic Preservation Officer, and FHWA and is consistent with the reason why the Freedom Bridge was preserved under the National Historic Preservation Act. Although INDOT has traced 23 percent of the steel in the Freedom Bridge to Carnegie Steel, a United States manufacturer, State officials cannot verify that the remaining steel to be incorporated in the reassembled bridge is of domestic origin. Therefore, INDOT requested a Buy America waiver for the reuse of the incorporated steel.

In accordance with Division A, section 122 of the “Consolidated and Further Continuing Appropriations Act, 2012” (Pub. L. 112-55), the FHWA published a notice of intent to issue a public interest waiver on its Web site for re-use of original steel components to construct the trail bridge over SR 25 on May 21st (http://www.fhwa.dot.gov/construction/contracts/waivers.cfm?id=88). The FHWA received no comments in response to the publication. This Public Interest waiver of the Buy America requirements of 23 CFR 635.410 is to permit INDOT to reuse original structural steel components from the disassembled historic bridge owned by Owen County for re-establishment of a bike/pedestrian trail over SR 25. The basis for the public interest waiver is:

• It fulfills the intent of a 1991 Section 106 of the National Historic Preservation Act's Memorandum of Understanding (NHPA MOA) that the historic Freedom Bridge be moved and preserved; and

• The proposed reassembly of the historic Freedom Bridge satisfies a critical need in providing the necessary connectivity for the Monon High Bridge Trail, but is also appropriate because the bridge was built in the 1890s, the peak period of the “Bicycle Craze” of the day.

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Indiana waiver page noted above.

Authority: 23 U.S.C. 313; Pub. L. 110-161, 23 CFR 635.410.

Issued on: August 28, 2013.
Victor M. Mendez,
FHWA Administrator.

[FR Doc. 2013-21983 Filed 9-9-13; 8:45 am]

BILLING CODE 4910-22-P